DEPARTMENT OF STATE

[Public Notice: 10899]

Determination Pursuant to Section 451 of the Foreign Assistance Act for the Use of Funds To Support Burundi and Mauritania

Pursuant to section 451 of the Foreign Assistance Act of 1961 (the “Act”) (22.U.S.C. 2261), section 1-100(a)(1) of Executive Order 12163, and Delegation of Authority 245-2, I hereby authorize, notwithstanding any other provision of law, the use of up to $25,000,000 made available to carry out provisions of the Act (other than the provisions of chapter 1 of part I of the Act) to provide assistance authorized by part I of the Act to support Burundi's participation in the African Union Mission in Somalia (AMISOM) and counterterrorism capacity building programs for Mauritania.

This Determination and the accompanying Memorandum of Justification shall be promptly reported to the Congress. This Determination shall be published in the Federal Register.

Dated: September 6, 2019.
John J. Sullivan,
Deputy Secretary of State .

[FR Doc. 2019-20519 Filed 9-20-19; 8:45 am]

BILLING CODE 4710-25-P